DEPARTMENT OF ENERGY

Federal Energy Regulatory Commission

Combined Notice of Filings #2

Take notice that the Commission received the following electric rate filings:

Docket Numbers: ER12-161-015; ER12-2068-011; ER15-1471-006; ER12-645-017; ER10-2460-011; ER10-2461-011; ER12-2159-007; ER12-682-012; ER10-2463-011; ER15-1672-005; ER11-2201-015; ER10-2464-009; ER10-1821-012; ER13-1139-014; ER13-1585-008; ER12-2205-008; ER10-2465-007; ER11-2657-008; ER14-25-012; ER13-17-009; ER14-2630-007; ER12-919-006; ER12-1311-011; ER10-2466-012; ER11-4029-011.

Applicants: Bishop Hill Energy LLC, Blue Sky East, LLC, Blue Sky West, LLC, California Ridge Wind Energy LLC, Canandaigua Power Partners, LLC, Canandaigua Power Partners II, LLC, Canadian Hills Wind, LLC, Erie Wind, LLC, Evergreen Wind Power, LLC, Evergreen Wind Power II, LLC, Evergreen Wind Power III, LLC, First Wind Energy Marketing, LLC, Goshen Phase II LLC, Imperial Valley Solar 1, LLC, Longfellow Wind, LLC, Meadow Creek Project Company LLC, Milford Wind Corridor Phase I, LLC, Milford Wind Corridor Phase II, LLC, Prairie Breeze Wind Energy LLC, Niagara Wind Power, LLC, Regulus Solar, LLC Rockland Wind Farm LLC, Stetson Holdings, LLC, Stetson Wind II, LLC, Vermont Wind, LLC.

Description: Notice of Non-Material Change in Status of Bishop Hill Energy, LLC, et al.

Filed Date: 1/28/16.

Accession Number: 20160128-5361.

Comments Due: 5 p.m. ET 2/18/16.

Docket Numbers: ER12-569-011; ER15-1925-004; ER15-2676-003; ER13-712-012; ER10-1849-010; ER11-2037-010; ER12-2227-010; ER10-1887-010; ER10-1920-012; ER10-1928-012; ER10-1952-010; ER10-1961-010; ER12-1228-012; ER14-2707-007; ER12-895-010; ER10-2720-012; ER11-4428-012; ER12-1880-011; ER15-58-005; ER14-2710-007; ER15-30-005; ER14-2708-008; ER14-2709-007; ER13-2474-006; ER11-4462-016; ER10-1971-025.

Applicants: Blackwell Wind, LLC, Breckinridge Wind Project, LLC, Cedar Bluff Wind, LLC, Cimarron Wind Energy, LLC, Elk City Wind, LLC, Elk City II Wind, LLC, Ensign Wind, LLC FPL Energy Cowboy Wind, LLC, FPL Energy Oklahoma Wind, LLC, FPL Energy Sooner Wind, LLC, Gray County Wind Energy, LLC, High Majestic Wind Energy Center, LLC, High Majestic Wind II, LLC, Mammoth Plains Wind Project, LLC, Minco Wind Interconnection Services, LLC, Minco Wind, LLC, Minco Wind II, LLC, Minco Wind III, LLC, Palo Duro Wind Interconnection Services, LLC, Palo Duro Wind Energy, LLC, Seiling Wind Interconnection Services, LLC, Seiling Wind, LLC, Seiling Wind II, LLC, Steele Flats Wind Project, LLC, NEPM II, LLC, NextEra Energy Power Marketing, LLC.

Description: Notification of Non-material Change in Status of the NextEra Companies.

Filed Date: 1/28/16.

Accession Number: 20160128-5362.

Comments Due: 5 p.m. ET 2/18/16.

Docket Numbers: ER16-197-001.

Applicants: Midcontinent Independent System Operator, Inc.

Description: Compliance filing: 2016-01-29_MISO TOs Att O ADIT Compliance Filing to be effective 1/1/2016.

Filed Date: 1/29/16.

Accession Number: 20160129-5271.

Comments Due: 5 p.m. ET 2/19/16.

Docket Numbers: ER16-826-000.

Applicants: Florida Power & Light Company.

Description: § 205(d) Rate Filing: FPL and LCEC Amended and Restated Resource Recovery Facility Intercon Agreement to be effective 3/29/2016.

Filed Date: 1/29/16.

Accession Number: 20160129-5238.

Comments Due: 5 p.m. ET 2/19/16.

Docket Numbers: ER16-827-000.

Applicants: PJM Interconnection, L.L.C., American Transmission Systems, Incorporated, Metropolitan Edison Company, Pennsylvania Electric Company.

Description: § 205(d) Rate Filing: American Transmission Systems, Inc.et al. Filing of New and Revised Service A to be effective 3/29/2016.

Filed Date: 1/29/16.

Accession Number: 20160129-5272.

Comments Due: 5 p.m. ET 2/19/16.

Docket Numbers: ER16-828-000.

Applicants: CID Solar, LLC.

Description: Compliance filing: Compliance Filing—Change Category 2 Seller in SW Region to be effective 3/29/2016.

Filed Date: 1/29/16.

Accession Number: 20160129-5307.

Comments Due: 5 p.m. ET 2/19/16.

Docket Numbers: ER16-829-000.

Applicants: Southwest Power Pool, Inc.

Description: § 205(d) Rate Filing: Bylaws Section 8.4 Revisions Regarding Monthly Assessments to be effective 3/1/2016.

Filed Date: 1/29/16.

Accession Number: 20160129-5353.

Comments Due: 5 p.m. ET 2/19/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2016.
Nathaniel J. Davis, Sr.,
Deputy Secretary.

[FR Doc. 2016-02074 Filed 2-3-16; 8:45 am]

BILLING CODE 6717-01-P